INTERNATIONAL TRADE COMMISSION

Agency Information Collection Activities: Proposed Collection; Comment Request; Generic Clearance for the Collection of Qualitative Feedback on Agency Service Delivery

AGENCY: U.S. International Trade Commission.

ACTION: Notice.

SUMMARY: As part of a Federal Government-wide effort to streamline the process to seek feedback from the public on service delivery, U.S. International Trade Commission has submitted a 30-day Generic Information Collection Request (Generic ICR): “Generic Clearance for the Collection of Qualitative Feedback on Agency Service Delivery ” to OMB for approval under the Paperwork Reduction Act (PRA).

DATES: Comments must be submitted September 29, 2017.

ADDRESSES: Written comments should be directed to the Office of Management and Budget, Office of Information and Regulatory Affairs, Room 10102 (Docket Library), Washington DC 20503, Attention: Docket Librarian. Copies of any comments should be provided to Kirit Amin, Chief Information Officer, U.S. International Trade commission, 500 E Street SW., Washington, DC 20436, who is the Commissions' designated Senior Official under the Paperwork Reduction Act. Persons with mobility impairments who will need special assistance in gaining access to the Commission should contact the Secretary at 202-205-2000. Hearing impaired individuals are advised that information on this matter can be obtained by contacting our TDD terminal (telephone no. 202-205-1810). Also, general information about the Commission can be obtained from its Internet server (http://www.usitc.gov).

FOR FURTHER INFORMATION CONTACT: To request additional information, please contact Jeremy Wise at 202-205-3190.

SUPPLEMENTARY INFORMATION:

Title: Generic Clearance for the Collection of Qualitative Feedback on Agency Service Delivery.

Abstract: The information collection activity will garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

The U.S. International Trade commission received no comments in response to the 60-day notice published in the Federal Register of May 26, 2017 (82 FR 24398).

Below we provide the U.S. International trade Commission's projected average estimates for the next three years:

Current Actions: Extension of current clearance.

Type of Review: New Collection.

Affected Public: Businesses and Organizations.

Average Expected Number of Activities (annual): 10.

Average Number of Respondents (per activity): 60.

Annual Responses (annual): 600.

Frequency of Response: Once per request.

Average Minutes per Response: 30.

Average Burden Hours (annual): 300.

An agency may not conduct or sponsor, and a person is not required to respond to, a collection of information unless it displays a currently valid Office of Management and Budget control number.

By order of the Commission.
Issued: August 21, 2017.
William R. Bishop,
Supervisory Hearings and Information Officer.

[FR Doc. 2017-17969 Filed 8-23-17; 8:45 am]

BILLING CODE 7020-02-P